DEPARTMENT OF DEFENSE

Defense Acquisition Regulations System

48 CFR Parts 204, 209, 216, 225, 229, and 247

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective Date: July 3, 2013.

FOR FURTHER INFORMATION CONTACT: Mr. Manuel Quinones, Defense Acquisition Regulations System, OUSD(AT&L)DPAP(DARS), Room 3B855, 3060 Defense Pentagon, Washington, DC 20301-3060. Telephone 571-372-6088; facsimile 571-372-6094.

SUPPLEMENTARY INFORMATION: This final rule amends the DFARS as follows:

1. Corrects typographical error at section 225.7902-5(b)(1).

2. Replaces the word “clause” with “provision” when referring to FAR 52.204-7 at 204.1202; 209.104-70; 209.470-4; 216.203-4-70; 225.1101; 225.1103; 225.7605; 229.402-70; and 247.574.

List of Subjects in 48 CFR Parts 201, 204, 215, 225, 227, 242, 245 and 252

Government procurement.

Manuel Quinones,
Editor, Defense Acquisition Regulations System.

Therefore, 48 CFR parts 204, 209, 216, 225, 229, and 247 are amended as follows:

1. The authority citation for 48 CFR parts 204, 209, 216, 225, 229, and 247 continues to read as follows:

Authority: 41 U.S.C. 1303 and 48 CFR chapter 1.

PART 204—ADMINISTRATIVE MATTERS

204.1202 [Amended]

2. Amend section 204.1202(2) by removing “the clause at 52.204-7” and adding “the provision at FAR 52.204-7” in its place.

PART 209—CONTRACTOR QUALIFICATIONS

209.104-70 [Amended]

3. Amend paragraphs (a) and (b) of section 209.104-70 by removing “the clause at FAR 52.204-7” and adding “the provision at FAR 52.204-7” in its place.

209.470-4 [Amended]

4. Amend paragraph (a) of section 209.470-4 by removing “the clause at FAR 52.204-7” and adding “the provision at FAR 52.204-7” in its place.

PART 216—TYPES OF CONTRACTS

216.203-4-70 [Amended]

5. Amend paragraph (c)(2) of section 216.203-4-70 by removing “the clause at FAR 52.204-7” and adding “the provision at FAR 52.204-7” in its place.

PART 225—FOREIGN ACQUISITION

225.1101 [Amended]

6. Amend section 225.1101, in paragraphs (1)(i), (5)(i), (7), and (10)(i), by removing “the clause at FAR 52.204-7” and adding “the provision at FAR 52.204-7” in its place.

225.1103 [Amended]

7. Amend paragraph (3) of section 225.1103 by removing “the clause at FAR 52.204-7” and adding “the provision at FAR 52.204-7” in its place.

225.7605 [Amended]

8. Amend section 225.7605 by removing “the clause at FAR 52.204-7” and adding “the provision at FAR 52.204-7” in its place.

225.7902-5

9. Amend section 225.7902-5 by revising (b)(1)(i) to read as follows:

225.7902-5 Solicitation provision and contract clause.

* * * * *

(b)(1) * * *

(i) Export-controlled items are expected to be involved in the performance of the contract and the clause at 252.225-7048 is used; and

* * * * *

PART 229—TAXES

229.402-70 [Amended]

10. Amend section 229.402-70 by—

a. In paragraph (c)(2), removing “the clause at FAR 52.204-7” and adding “the provision at FAR 52.204-7” in its place; and

b. In paragraph (e)(1), removing “the clause at FAR 52.204-7” and adding “the provision at FAR 52.204-7” in its place.

PART 247—TRANSPORTATION

247.574 [Amended]

11. Amend paragraph (a)(2) of section 247.574 by removing “the clause at FAR 52.204-7” and adding “the provision at FAR 52.204-7” in its place.

[FR Doc. 2013-15966 Filed 7-2-13; 8:45 am]

BILLING CODE 5001-06-P